DEPARTMENT OF ENERGY

Federal Energy Regulatory Commission

18 CFR Parts 35 and 37

[Docket Nos. RM05-25-000 and RM05-17-000]

Preventing Undue Discrimination and Preference in Transmission Service

AGENCY: Federal Energy Regulatory Commission.

ACTION: Correction.

SUMMARY: This document corrects a paragraph formatting and numbering error in a notice of proposed rulemaking that the Federal Energy Regulatory Commission published in the Federal Register on June 6, 2006. That action proposed amendments to Commission Order Nos. 888 and 889.

DATES: Effective Date: June 6, 2006.

FOR FURTHER INFORMATION CONTACT: David D. Withnell, Office of the General Counsel, Federal Energy Regulatory Commission at (202) 502-8421.

SUPPLEMENTARY INFORMATION: In FR Document 06-4904, published on June 6, 2006 (71 FR 32636) make the following correction:

On page 32695, in column 3, paragraph nos. 395 and 396 should be merged into one paragraph and designated no. 395. Paragraph no. 397 becomes 396 and the subsequent paragraph numbers are corrected accordingly. (The corrected sequence runs from the renumbered paragraph no. 396 to the last paragraph in the preamble, which will be paragraph no. 499.)

Magalie R. Salas,
Secretary.

[FR Doc. E6-10146 Filed 6-28-06; 8:45 am]

BILLING CODE 6717-01-P